DEPARTMENT OF STATE

[Public Notice: 11702]

Cultural Property Advisory Committee; Notice of Meeting

ACTION: Notice of meeting.

SUMMARY: The Department of State announces the location, dates, times, and agenda for the next meeting of the Cultural Property Advisory Committee (“the Committee”).

DATES: The Committee will meet virtually April 26-27, 2022, from 10:00 a.m. to 5:00 p.m. (EDT).

Participation: The public may participate in, or observe, the open session on April 26, 2022, from 2:00 p.m. to 3:00 p.m. (EDT). More information below.

FOR FURTHER INFORMATION CONTACT: Allison Davis, Bureau of Educational and Cultural Affairs—Cultural Heritage Center, (202-702-1166) (culprop@state.gov).

SUPPLEMENTARY INFORMATION: The Assistant Secretary of State for Educational and Cultural Affairs calls a meeting of the Cultural Property Advisory Committee (“the Committee”) in accordance with the Convention on Cultural Property Implementation Act (19 U.S.C. 2601 et seq.) (“the Act”). A portion of this meeting will be closed to the public pursuant to 5 U.S.C. 552b(c)(9)(B) and 19 U.S.C. 2605(h).

Meeting Agenda: The Committee will review the request by the Government of the Islamic Republic of Pakistan seeking import restrictions on archaeological and ethnological material.

The Open Session: The general public can observe the virtual open session on April 26, 2022. Registered participants can provide oral comments for a maximum of five (5) minutes. The Department provides specific instructions on how to observe or provide oral comments at the open session at https://eca.state.gov/highlight/cultural-property-advisory-committee-meeting-april-26-27-2022.

Oral Comments: Register to speak at the open session by sending an email with your name and organizational affiliation, as well as any requests for reasonable accommodation, to culprop@state.gov by April 19, 2022. Written comments are not required to make an oral comment during the open session.

Written Comments: The Committee will review written comments if received by April 19, 2022, at 11:59 p.m. (EDT). Written comments may be submitted in two ways, depending on whether they contain confidential information:

General Comments: For general comments, use http://www.regulations.gov, enter the docket [DOS-2022-0008], and follow the prompts.

Confidential Comments: For comments that contain privileged or confidential information (within the meaning of 19 U.S.C. 2605(i)(1)), please email submissions to culprop@state.gov. Include “Pakistan” in the subject line.

Disclaimer: The Cultural Heritage Center website contains additional information about each agenda item, including categories of archaeological and ethnological material that may be included in import restrictions: https://eca.state.gov/highlight/cultural-property-advisory-committee-meeting-april-26-27-2022. Comments should relate specifically to the determinations specified in the Act at 19 U.S.C. 2602(a)(1). Written comments submitted via regulations.gov are not private and are posted at https://www.regulations.gov. Because written comments cannot be edited to remove any personally identifying or contact information, we caution against including any such information in an electronic submission without appropriate permission to disclose that information (including trade secrets and commercial or financial information that are privileged or confidential within the meaning of 19 U.S.C. 2605(i)(1)). We request that any party soliciting or aggregating written comments from other persons inform those persons that the Department will not edit their comments to remove any identifying or contact information and that they therefore should not include any such information in their comments that they do not want publicly disclosed.

Allison Davis,
Executive Director, Cultural Property Advisory Committee, Bureau of Educational and Cultural Affairs, Department of State.

[FR Doc. 2022-07122 Filed 4-4-22; 8:45 am]

BILLING CODE 4710-05-P